DEPARTMENT OF DEFENSE

Department of the Air Force

Privacy Act of 1974; System of Records

AGENCY: Department of the Air Force, DoD.

ACTION: Notice to Add a Record System.

SUMMARY: the Department of the Air Force proposes to add a system of records notice to its inventory of records systems subject to the Privacy Act of 1974 (5 U.S.C. 552a), as amended.

DATES: The actions will be effective on May 14, 2001 unless comments are received that would result in a contrary determination.

ADDRESSES: Send comments to the Air Force Access Programs Manager, Headquarters, Air Force Communications and Information Center/Inc, 1250 Air Force Pentagon, Washington, DC 20330-1250.

FOR FURTHER INFORMATION CONTACT: Mrs. Anne P. Rollins at (703) 588-6187l.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on April 3, 2001, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6247).

Dated: April 6, 2001.
L. M. Bynum,
Alternate OSD Federal Register Liaison Officer, Department of Defense.

F052 AF HC A

System Name:

Chapel Participant Information Set.

System Location:

Chaplain's offices at Air Force installations and units. Official mailing addresses are published as an appendix to the Air Force's compilation of systems of records notices.

Categories of individuals covered by the system:

Active duty and retired military and civilian personnel, and family members.

Categories of records in the system:

Individual's religious preference, name, age, religious education class/department assignment, date of birth, gender, home phone, mother and father's names, ranks, work phones, employers, religious preferences, local address, anticipated date of return from overseas, status of baptism, first communion, church membership, first penance, confirmation, special needs/handicaps, request for interview with a chaplain, request for home visit, areas of major interest in the chapel program.

Note: Any and all information relating to an individual's religious preference or religious activity is collected and maintained only if the individual has made an informed decision to voluntarily provide the information.

Authority for maintenance of the system:

10 U.S.C. 8013, Secretary of the Air Force.

Purpose(s):

Information is used for proper placement of individuals in religious education classes/programs, emergency notification; program statistical analysis; determine parish organization membership; contact persons who have volunteered to work in chapel programs; to do home visitation with new personnel requesting a visit.

Routine uses of records maintained in the system, including categories of users and the purposes of such uses:

In addition to those disclosures generally permitted under 5 USC 552a(b) of the Privacy Act, these records or information contained therein may specifically be disclosed outside the DoD as a routine use pursuant to 5 U.S.C. 552a(b)(3) as follows:

The DoD “Blanket Routine Uses” published at the beginning of the Air Force's compilation of systems of records notices apply to this system.

Policies and practices for storing, retrieving, accessing, retaining, and disposing of records in the system:

Storage:

Maintained in file boxes and on computer and computer output products.

Retrievability:

Retrieved by name.

Safeguards:

Records are accessed by person(s) responsible for servicing the record system in performance of their official duties and by authorized personnel who are properly screened and cleared for need-to-know. Records are stored in locked rooms and cabinets, and in computer storage devices protected by computer system software.

Retention and disposal:

Disposition pending (until NARA disposition is approved, treat as permanent).

System manager(s) and address:

Noncommissioned Officer in Charge, Plans and Programs Branch, Office of the Chief of Chaplain Service, 112 Luke Avenue, Bolling Air Force Base, Washington, DC 20332-9050.

Notification procedure:

Individuals seeking to determine whether this system of records contains information on themselves should address written inquiries to or visit the wing chaplain's office. Official mailing addresses are published as an appendix to the Air Force's compilation of systems of records notices.

Written requests for information should contain full name of individual.

Record access procedures:

Individuals seeking access to records about themselves contained in this system of records should address written inquiries to or contact the wing chaplain's office. Official mailing addresses are published as an appendix to the Air Force's compilation of systems of records notices.

Requester must be able to provide sufficient proof of identity, with an Armed Forces identification card or a driver's license.

Contesting record procedures:

The Air Force rules for accessing records, and for contesting contents and appealing initial agency determinations are published in Air Force Instruction 37-132; 32 CFR part 806b; or may be obtained from the system manager.

Record source categories:

Information provided by the individual, or parents of the minor.

Exemptions claimed for the system:

None.

[FR Doc. 01-9143 Filed 4-12-01; 8:45 am]

BILLING CODE 5001-10-M